DEPARTMENT OF STATE

[Delegation of Authority 302]

Delegation by the Secretary of State to Maura Harty of Authorities Normally Vested in the Under Secretary for Management

By virtue of the authority vested in me as Secretary of State by the laws of the United States, including, Section 1 of the State Departments Basic Authorities Act. As amended (22 U.S.C. 2651a), I hereby delegate to Maura A. Harty, to the extent authorized by law, all authorities that have been or may be delegated to the Under Secretary for Management.

Any authority covered by this delegation may also be exercised by the Secretary, the Deputy Secretary, or the Under Secretary for Management.

Any act, executive order, regulation, or procedure subject to or affected by, this delegation of authority shall be deemed to be such act, executive order, regulation, or procedure as amended from time to time.

This delegation shall expire upon the appointment and entry upon duty of an individual to replace Henrietta H. Fore as the Under Secretary of State for Management.

This delegation of authority shall be published in the Federal Register.

Dated: May 10, 2007.
Condoleezza Rice,
Secretary of State, Department of State.

[FR Doc. E7-9761 Filed 5-18-07; 8:45 am]

BILLING CODE 4710-10-P